DEPARTMENT OF COMMERCE

National Oceanic and Atmospheric Administration

50 CFR Part 622

[Docket No. 171128999-8999-02]

RIN 0648-BH43

Fisheries of the Caribbean, Gulf of Mexico, and South Atlantic; Permit Renewal Applications

AGENCY: National Marine Fisheries Service (NMFS), National Oceanic and Atmospheric Administration (NOAA), Commerce.

ACTION: Final rule.

SUMMARY: NMFS issues this final rule to implement administrative revisions to the renewal process for Federal vessel permits, licenses, and endorsements, and dealer permits in the NMFS Southeast Region. This final rule removes the regulatory requirement that NMFS must mail a renewal application to a permit holder whose Federal vessel, license, or endorsement, or dealer permit is expiring. NMFS will continue to provide notice of the upcoming expiration date to the permit holder. This final rule also removes the regulatory requirement that NMFS must notify an applicant of any deficiency in a renewal application only through sending a letter via traditional mail, such as through the U.S. Postal Service, which allows NMFS expanded options for notifying permit holders. The purpose of this final rule is to reduce the administrative costs and burden to NMFS of renewing Federal permits, while still maintaining the renewal notice, information, and services to the public.

DATES: This final rule is effective on January 14, 2019.

ADDRESSES: Written comments regarding the burden-hour estimates or other aspects of the collection-of-information requirements contained in this final rule may be submitted to Adam Bailey, NMFS Southeast Regional Office, 263 13th Avenue South, St. Petersburg, FL 33701, or the Office of Management and Budget (OMB) by email to OIRA_Submission@omb.eop.gov, or by fax to 202-395-5806.

FOR FURTHER INFORMATION CONTACT: Sarah Stephenson, NMFS Southeast Regional Office, telephone: 727-824-5305, email: sarah.stephenson@noaa.gov.

SUPPLEMENTARY INFORMATION: In the U.S. southeast region, NMFS and regional fishery management councils manage fisheries in Federal waters under the under the authority of the Magnuson-Stevens Fishery Conservation and Management Act (Magnuson-Stevens Act) (16 U.S.C. 1801 et seq.) and through regulations implemented by NMFS at 50 CFR part 622.

On August 1, 2018, NMFS published a proposed rule and requested public comment on possible administrative process revisions to the renewal of Federal vessel permits, licenses, or endorsements, and Federal dealer permits (hereafter referred to collectively as permits) for species managed under multiple fishery management plans (FMPs) developed by Gulf of Mexico (Gulf) and South Atlantic Fishery Management Councils (83 FR 37455). The proposed rule outlined the rationale for the actions contained in this final rule. A summary of the management measures described in the proposed rule and implemented by this final rule is provided below.

Management Measures Contained in This Final Rule

This final rule removes the requirement that the Regional Administrator (RA) for the NMFS Southeast Region automatically mails a renewal application with the notice sent to a permit holder whose Federal permit is expiring. Instead, approximately 2 months prior to the expiration date of the permit, the RA will continue to provide notice to each permit holder through a letter, email, or other appropriate means, and in the notice provide the available options for an applicant to obtain a permit renewal application.

NMFS will continue to mail renewal applications upon request from an applicant. Permit holders may call the NMFS Southeast Permits Office to make that request at 1-877-376-4877, Monday through Friday between 8 a.m. and 4:30 p.m., eastern time. Permit holders may also obtain applications in person or through written request from the NMFS Southeast Permits Office, located at 263 13th Ave. South, St. Petersburg, Florida 33701.

Applications to renew a Federal permit are currently available for download and printing from the NMFS Southeast Permits Office website at http://sero.nmfs.noaa.gov/operations_management_information_services/constituency_services_branch/permits/index.html.

In addition, NMFS has continued to expand the number of renewal applications that can be accessed and submitted online at the Southeast Permits Office website. This option includes the ability to pay application fees electronically. As of October 3, 2018, applicants can submit applications online to renew the majority of the Federal permits in the southeast region.

This final rule also removes the requirement that the RA must notify an applicant of any deficiency in a renewal application only by a letter sent through traditional mail. NMFS may notify a permit holder of an application deficiency through a letter, email, or other appropriate means that may be available.

NMFS expects this final rule to reduce administrative labor and material costs associated with mailing permit renewal applications and letters of application deficiency to permit holders by allowing NMFS the flexibility to use more efficient means to provide the permit renewal applications and notifications of application deficiency.

NMFS does not expect this final rule to affect the overall number of annual permit renewals that NMFS receives or change the average time necessary for an applicant to complete an application. This final rule will not result in any change to fisheries operations.

As described in 50 CFR 622.4(g)(1), NMFS reminds permit holders that a completed renewal application along with required supporting documentation, must be submitted to the RA at least 30 days prior to the date on which the applicant desires to have the permit effective. This final rule does not revise this permit renewal requirement.

Additional Change Not Part of This Final Rule

Although not a regulatory requirement, NMFS has historically mailed renewal applications for Federal operator cards (required for the Atlantic dolphin and wahoo, and South Atlantic rock shrimp commercial fisheries) to vessel operators prior to the expiration date. Upon implementation of this final rule, NMFS will not automatically mail a renewal application to individuals with an operator card prior to the expiration date; however, similar to the notification of permit holders with Federal permits discussed in this final rule, NMFS intends to continue providing notification to a vessel operator with an operator card of its upcoming expiration prior to that date. Additionally, NMFS may use methods other than by letter to notify applicants that a renewal application contains deficiencies.

Comments and Responses

NMFS received 23 comments from individuals and a fisheries consulting company on the proposed rule. The majority of the comments were in support of the proposed rule. NMFS acknowledges the comments in favor of all or part of the proposed rule, and agrees with them. Comments that were beyond the scope of the proposed rule are not responded to in this final rule. Comments specifically in opposition to all or some of the actions in the proposed rule, as well as NMFS' respective responses, are summarized below.

Comment 1: The proposed rule will result in additional burdens to permit holders such as additional time requirements and steps in the permit renewal process, and as a result, could cause permits to expire.

Response: As discussed in the proposed rule, although permit holders who currently rely on the application being automatically mailed to them will be affected, any added cost or time to permit holders to acquire an application by the most commonly anticipated methods, that is, by telephone request, digital download, or online access and submission, is expected to be minimal. All of these methods to acquire an application already exist, and an applicant may select a different option based on their preference each time they need to renew a permit. As of October 2018, applicants can access and submit applications online for the majority of the permits issued under the FMPs, and NMFS continues to expand the number of permit renewal applications that are available to submit online. For those permit holders with access to a computer and the internet, accessing and submitting a renewal application online will provide a direct benefit to permit holders by eliminating the cost of mailing a completed paper application and a check or money order. By providing the ability to pay the permit renewal fee electronically, the benefits include, but are not restricted to, higher transaction speed, reduced check-associated costs, and greater transaction transparency. Those permit holders that do not have access to a computer or the internet can call and request that NMFS mail them an application.

NMFS does not expect this final rule to change the average time required for an applicant to complete a permit renewal application. NMFS will continue to provide permit reporting requirements and instructions for viewing vessel reporting status in the permit renewal notification, which NMFS sends to every permit holder approximately 2 months prior to the expiration date of a permit. NMFS does not expect this final rule to affect the ability of any permit holder to renew a permit.

Comment 2: Renewing permits should continue via printed and mailed applications. Receiving an application in the mail has helped remind permit holders to renew their permits, and not all permit holders have access to a computer or prefer not to use electronic methods to obtain an application (e.g., through email or digital download).

Response: Those permit holders who continue to need NMFS to send a paper application can request one. Removing the requirement to mail all permit renewal applications will reduce costs, while still allowing NMFS to provide paper applications to those permit holders who want them.

This final rule also allows NMFS to use expanded options for notifying permit holders about permit renewals. NMFS will continue to notify the permit holder approximately 2 months prior to the expiration date of their permit through a letter, email, or other appropriate means that may be available. That renewal notification will also include instructions for obtaining an application.

Comment 3: Commercial fishermen in catch share programs pay a 3 percent cost recovery fee to NMFS. Because commercial fishermen pay these administrative costs, it is not fair to reduce administrative costs to the government and impose additional administrative duties on commercial fishermen.

Response: Cost recovery fees can only be used to pay for incremental costs directly related to the management and enforcement of the red snapper and grouper-tilefish individual fishing quota (IFQ) programs. The costs incurred by NMFS to mail renewal applications to permit holders are unrelated to the management and enforcement of those programs. Permits are required to harvest and possess multiple species of fish regardless of whether someone participates in one of IFQ programs, and this final rule applies to all permits issued by the Southeast Permits Office.

Further, as discussed in the response to Comment 1, any added cost or time to permit holders to acquire an application by the most commonly anticipated methods, that is, by telephone request, digital download, or online access and submission, is expected to be minimal. However, this final rule gives NMFS the flexibility to use more efficient means to provide permit renewal applications and notifications of application deficiency.

Classification

The RA for the NMFS Southeast Region has determined that this final rule is consistent with the applicable FMPs in the Gulf and South Atlantic, the Magnuson-Stevens Act, and other applicable laws.

This final rule has been determined to be not significant for purposes of Executive Order 12866.

The Magnuson-Stevens Act provides the statutory basis for this final rule. No duplicative, overlapping, or conflicting Federal rules have been identified. In addition, no new reporting, recordkeeping, or other compliance requirements are introduced by this final rule.

The Chief Counsel for Regulation of the Department of Commerce certified to the Chief Counsel for Advocacy of the Small Business Administration during the proposed rule stage that this rule would not have a significant adverse economic impact on a substantial number of small entities. The factual basis for this determination was published in the proposed rule and is not repeated here. No significant issues were raised by public comments related to the economic impacts on small businesses, and no changes to this final rule were made in response to public comments. As a result, a final regulatory flexibility analysis was not required and none was prepared.

This final rule contains collection-of-information requirements subject to the Paperwork Reduction Act (PRA) that OMB has approved under control number 0648-0205. Public reporting burdens for renewal applications in the Southeast Region Permit Family of Forms are estimated to vary between 30 and 55 minutes, depending on the applicable form. The estimated reporting burdens are based on an individual response, including the time for reviewing instructions, searching existing data sources, gathering and maintaining the data needed, and completing and reviewing the collection of information. This final rule does not change existing collection-of-information requirements or estimated reporting burdens. Send comments regarding the burden estimates, or any other aspect of this data collection, including suggestions for reducing the burden to Adam Bailey, NMFS Southeast Regional Office (see ADDRESSES), by email to OIRA_Submission@omb.eop.gov, or fax to 202-395-5806.

Notwithstanding any other provision of the law, no person is required to respond to, and no person will be subject to penalty for failure to comply with, a collection of information subject to the requirements of the PRA, unless that collection of information displays a currently valid OMB control number. All currently approved collections of information may be viewed at http://www.cio.noaa.gov/services_programs/prasubs.html.

List of Subjects in 50 CFR Part 622

Commercial, Dealer, Endorsement, Fisheries, Fishing, Gulf of Mexico, License, Permit, South Atlantic.

Dated: December 10, 2018.
Alan D. Risenhoover,
Acting Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.4, revise paragraph (g)(1) to read as follows:

§ 622.4 Permits and fees—general.

* * * * *

(g) * * *

(1) Vessel permits, licenses, and endorsements, and dealer permits. Unless specified otherwise, a vessel or dealer permit holder who has been issued a permit, license, or endorsement under this part must renew such permit, license, or endorsement on an annual basis. The RA will notify a vessel or dealer permit holder whose permit, license, or endorsement is expiring approximately 2 months prior to the expiration date. A vessel or dealer permit holder who does not receive a notification is still required to submit an application form as specified below. The applicant must submit a completed renewal application form and all required supporting documents to the RA prior to the applicable deadline for renewal of the permit, license, or endorsement, and at least 30 calendar days prior to the date on which the applicant desires to have the permit made effective. Application forms and instructions for renewal are available online at sero.nmfs.noaa.gov or from the RA (Southeast Permits Office) at 1-877-376-4877, Monday through Friday between 8 a.m. and 4:30 p.m., eastern time. If the RA receives an incomplete application, the RA will notify the applicant of the deficiency. If the applicant fails to correct the deficiency within 30 calendar days of the notification date by the RA, the application will be considered abandoned. A permit, license, or endorsement that is not renewed within the applicable deadline will not be reissued.

* * * * *

[FR Doc. 2018-26984 Filed 12-12-18; 8:45 am]

BILLING CODE 3510-22-P